DEPARTMENT OF TRANSPORTATION

Federal Aviation Administration

14 CFR Part 73

[Docket No. FAA-2001-9059; Airspace Docket No. 01-AWA-1]

RIN 2120-AA66

Establishment of Prohibited Area P-49 Crawford; TX

AGENCY: Federal Aviation Administration (FAA), DOT.

ACTION: Final rule.

SUMMARY: This action establishes Prohibited Area 49 (P-49) over the Crawford, TX, residence of the President of the United States. The FAA is taking the action to enhance security in the immediate vicinity of the presidential residence and assist the United States Secret Service in accomplishing its mission of providing security for the President of the United States.

EFFECTIVE DATES: 0901 UTC, May 17, 2001.

FOR FURTHER INFORMATION CONTACT: Steve Rohring, Airspace and Rules Division, ATA-400, Office of Air Traffic Airspace Management, Federal Aviation Administration, 800 Independence Avenue, SW., Washington, DC, 20591; telephone: (202) 267-8783.

SUPPLEMENTARY INFORMATION:

Background

On March 7, the Department of the Treasury, United States Secret Service requested that the FAA establish a prohibited area at Crawford, TX, to enhance the level of security provided the President. In order to provide adequate safeguards for the protection of the President, it is necessary to designate certain airspace above the presidential residence at Crawford, TX, as a prohibited area. Under the provision of Section 73.83, no person may operate an aircraft within that area without permission from the using agency. This action responds to that request.

The Rule

This amendment to 14 CFR part 73 establishes P-49 Crawford, TX. The prohibited area extends from the surface to 5,000 feet above mean sea level (MSL) within a 3-nautical mile (NM) radius of latitude 31°34′57″ N., longitude 97°32′37″ W. Flight within this area is prohibited unless permission is obtained from the using agency.

Because of the immediate need to enhance the security of the President, I find that notice and public procedure under 5 U.S.C. 553(b) are impracticable. Section 73.89 of 14 CFR part 73 was republished in FAA Order 7400.8H, dated September 1, 2000.

This regulation is limited to an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since it has been determined that this is a routine matter that will only affect air traffic procedures and air navigation, it is certified that this rule, when promulgated, will not have a significant economic impact on a substantial number of small entities under the criteria of the Regulatory Flexibility Act.

Environmental Review

The FAA has determined that this action to establish a prohibited area from the surface up to 5,000 feet MSL qualifies for categorical exclusion under the National Environmental Policy Act in accordance with FAA Order 1050.1D, Policies and Procedures for Considering Environmental Impacts. This airspace action is not expected to cause any potentially significant environmental impacts, and there do not appear to be extraordinary circumstances warranting preparation of an environmental assessment.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.63 [Amended]

2.Part 73 is amended by adding new Section 73.63 to read as follows:

* * * * *

P-49 Crawford, TX [New]

Boundaries. That airspace within a 3 NM radius of lat. 31°34′57″ N., long. 97°32′37″ W.

Designated altitudes. Surface to 5,000 feet MSL.

Time of designation. Continuous.

Using agency. United States Secret Service, Washington, DC.

* * * * *

Issued in Washington, DC, on March 20, 2001.
Reginald C. Matthews,
Manager, Airspace and Rules Division.

[FR Doc. 01-7412 Filed 3-21-01; 2:49 pm]

BILLING CODE 4910-13-P